ENVIRONMENTAL PROTECTION AGENCY

[EPA-HQ-OW-2023-0551; FRL-8242.2-02-OW]

Implementing the Supreme Court's Maui Decision in the Clean Water Act Section 402 National Pollutant Discharge Elimination System Permit Program

AGENCY: Environmental Protection Agency (EPA).

ACTION: Notice of availability of draft guidance.

SUMMARY: The U.S. Environmental Protection Agency (EPA) is issuing for public comment a draft guidance on applying the recent decision of the United States Supreme Court in County of Maui v. Hawaii Wildlife Fund, in the Clean Water Act Section 402 National Pollutant Discharge Elimination System (NPDES) permit program for point source discharges that travel through groundwater before reaching a water of the United States. This guidance will not have the force and effect of law and it will not bind the public in any way. By issuing this guidance, the EPA intends only to provide clarity to the public regarding existing requirements under the law or Agency policies.

DATES: Comments must be received on or before December 27, 2023.

ADDRESSES: Submit your comments, identified by Docket ID No. EPA-HQ-OW-2023-0551, by any of the following methods:

• Federal eRulemaking Portal: https://www.regulations.gov (our preferred method). Follow the online instructions for submitting comments. Once submitted, comments cannot be edited or removed from www.regulations.gov.

• Mail: U.S. Environmental Protection Agency, EPA Docket Center, Water Docket, Mail Code 28221T, 1200 Pennsylvania Avenue NW, Washington, DC 20460.

• Hand Delivery or Courier: EPA Docket Center, WJC West Building, Room 3334, 1301 Constitution Avenue NW, Washington, DC 20004. The Docket Center's hours of operations are 8:30 a.m. to 4:30 p.m., Monday through Friday (except Federal Holidays).

Instructions: All submissions received must include the Docket ID No. for this rulemaking. Comments received may be posted without change to https://www.regulations.gov/, including any personal information provided. For detailed instructions on sending comments, see the “Public Participation” heading of the SUPPLEMENTARY INFORMATION section of this document.

FOR FURTHER INFORMATION CONTACT: Marcus Zobrist, Office of Wastewater Management, Water Permits Division (MC4203M), Environmental Protection Agency. 1200 Pennsylvania Ave. NW, Washington, DC 20460; telephone number: (202) 564-8311; email address: Zobrist.Marcus@epa.gov.

SUPPLEMENTARY INFORMATION:

I. Public Participation

Submit your comments, identified by Docket ID No. EPA-HQ-OW-2023-0551, at https://www.regulations.gov (our preferred method), or the other methods identified in the ADDRESSES section. Once submitted, comments cannot be edited or removed from the docket. The EPA may publish any comment received to its public docket. Do not submit to the EPA's docket at https://www.regulations.gov any information you consider to be Confidential Business Information (CBI), Proprietary Business Information (PBI), or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). Please visit https://www.epa.gov/dockets/commenting-epa-dockets for additional submission methods; the full EPA public comment policy; information about CBI, PBI, or multimedia submissions; and general guidance on making effective comments.

II. How can I get copies of this document and other related information?

You may access this document electronically at https://www.epa.gov/npdes/releases-point-source-groundwater or at https://www.federalregister.gov. The EPA established an official public docket under Docket ID No. EPA-HQ-OW-2023-0551 which is accessible electronically at http://www.regulations.gov that will also contain copies of this Federal Register document. The public docket does not include CBI or other information whose disclosure is restricted by statute. The telephone number for the Water Docket is (202) 566-2426.

Radhika Fox,
Assistant Administrator.

[FR Doc. 2023-26038 Filed 11-24-23; 8:45 am]

BILLING CODE 6560-50-P